DEPARTMENT OF AGRICULTURE

Food and Nutrition Service

Agency Information Collection Activities: Proposed Collection; Comment Request—Evaluation of the Birth Month Breastfeeding Changes to the WIC Food Packages

AGENCY: Food and Nutrition Service (FNS), USDA.

ACTION: Notice.

SUMMARY: In accordance with the Paperwork Reduction Act of 1995, this notice invites the general public and other public agencies to comment on this proposed information collection.

On December 6, 2007, FNS published an interim regulation in the Federal Register: Special Supplemental Nutrition Program for Women, Infants and Children (WIC): Revisions in the WIC Food Packages; Interim Rule [72 FR 68966]. This current notice announces FNS' intent to request from the Office of Management and Budget (OMB) approval to collect information for the evaluation of impacts of the Interim Rule on the food package choices and breastfeeding outcomes of postpartum women who participate in WIC.

DATES: Written comments must be received on or before August 18, 2008.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Ted Macaluso, Food and Nutrition Service, U.S. Department of Agriculture, 3101 Park Center Drive, Alexandria, VA 22302. Comments may also be submitted via fax to the attention of Ted Macaluso at 703-305-2576 or via e-mail to Ted.Macaluso@fns.usda.gov.

All responses to this notice will be summarized and included in the request for OMB approval. All comments will be a matter of public record.

FOR FURTHER INFORMATION CONTACT: Requests for additional information or copies of this information collection should be directed to Ted Macaluso at 703-305-2121.

SUPPLEMENTARY INFORMATION:

Title: Evaluation of the Birth Month Breastfeeding Changes to the WIC Food Packages.

OMB Number: Not Yet Assigned.

Expiration Date: Not Yet Determined.

Type of Request: New collection of information.

Abstract: The Special Supplemental Nutrition Program for Woman, Infants and Children (WIC), (42 U.S.C. 1786) provides low-income pregnant, breastfeeding, and postpartum women, infants, and children up to age five with nutritious supplemental foods. The program also provides nutrition education and referrals to health and social services. An Interim Rule published on December 6, 2007 (72 FR 68966) revises the WIC food packages to align them with the 2005 Dietary Guidelines for Americans and infant feeding practice guidelines of the American Academy of Pediatrics. The Interim Rule revisions largely reflect recommendations made by the Institute of Medicine (IOM) of the United States National Academies, in its 2005 report, “WIC Food Packages: Time for a Change,” with certain cost containment and administrative modifications found necessary by the Department to ensure cost neutrality. The Interim Rule's comment period ends on February 1, 2010.

The revised food packages for infants and women were designed to strengthen WIC's breastfeeding promotion efforts and provide additional incentives to assist mothers in making the decision to start and continue breastfeeding. Under the interim regulation, there are three infant feeding options available in the first month after birth—either (1) fully formula feeding; (2) fully breastfeeding; or (3) partially breastfeeding. Under the partial breastfeeding food package, the amount of infant formula available during the first month postpartum is limited. Thereafter, in months two through six, partially breastfed infants may only receive one half of the maximum amount of infant formula available to a fully formula fed infant. These changes are designed to promote the initiation, intensity, and duration of breastfeeding. The underlying theory is that by greatly reducing the amount of formula available for the partial breastfeeding option in the first month postpartum: (a) more mothers will initiate breastfeeding; and (b) mothers who have difficulty breastfeeding during the first month will be less likely to stop breastfeeding if formula is not so readily available. In addition, if less formula is available to partial breastfeeding mothers in months two through five postpartum, there is a greater likelihood that: (a) mothers will feed their infants relatively more breastmilk than formula each month; and (b) they will do so for longer than they would if formula were more plentiful.

These regulatory changes may have intended or unintended consequences for WIC mothers and infants. To identify potential positive impacts of the regulatory change, to address concerns about unintended consequences, and in response to recommendations from the IOM to study the effects of the rule change, FNS has funded this study to examine the effects of the changes in packages for postpartum women and infants on the initiation, intensity, and duration of breastfeeding.

To study the effects of the changes in food packages for postpartum women and infants, FNS is conducting a study in 16 Local WIC Agencies (LWAs). The study will gather data from administrative records; local WIC administrators; and WIC participants in 16 LWAs, selected as a sample with probability proportional to size; as well as officials from those States where the 16 LWAs are located. Data will be gathered prior to and after the interim regulation is implemented. The study will measure the impact of changes on food package choices and on breastfeeding initiation, intensity and duration. The study also will describe the implementation of these changes in these LWAs.

Affected Public: Respondent groups identified include: (1) WIC participants who are postpartum women with infants newborn through six months of age; (2) local WIC administrators from 16 LWAs selected as a sample with probability proportional to size; and (3) State WIC officials from, at most, 16 States (if the 16 sampled Local WIC Agencies are from different States).

Estimated Number of Respondents: The total estimated number of respondents is 2,144. This includes: 2,000 WIC participants (80% of whom will complete interviews); 16 Local WIC Agency directors; 16 Local WIC Agency outreach coordinators; 16 Local WIC Agency senior nutrition coordinators; 32 Local WIC Agency nutritionists; and, at most, 16 State WIC directors, 16 State breastfeeding coordinators, and 16 State nutrition coordinators.

Estimated Number of Responses per Respondent: The WIC participants will be asked to participate in one survey. All other respondents (Local WIC Agency directors, Local WIC Agency outreach coordinators, Local WIC Agency senior nutrition coordinators, Local WIC Agency nutritionists, State WIC directors, State breastfeeding coordinators, and State nutrition coordinators) will respond to one telephone interview and two in-person interviews for a total of three responses each.

Estimated Total Annual Responses: 2,432.

Estimated Time per Response: 32.4 minutes (0.54 hours). The estimated time of response varies from 30 to 60 minutes depending on respondent group, as shown in the table below, with an average estimated time of three minutes for non-responders to the participant survey.

Estimated Total Annual Burden on Respondents: 78,800 minutes (1,335.20 hours). See the table below for estimated total annual burden for each type of respondent.

Respondent | Estimated # respondents | Responses annually per respondent | Total annual responses (Col. bxc) | Estimated avg. # of hours per response | Estimated total hours (Col. dxe)
Reporting Burden
WIC Participants—completed interviews | 1600 | 1 | 1,600.00 | 0.58450 | 935.2
WIC Participants—attempted interviews | 400 | 1 | 400 | 0.1 | 40.0
State WIC Director | 16 | 3 | 48 | 1 | 48
State Breastfeeding Coordinator | 16 | 3 | 48 | 0.5 | 24
State Nutrition Coordinator | 16 | 3 | 48 | 0.5 | 24
Local WIC Agency Director | 16 | 3 | 48 | 1 | 48
Local WIC Breastfeeding Coordinator | 16 | 3 | 48 | 1 | 48
Local WIC Agency Outreach Coordinator | 16 | 3 | 48 | 0.5 | 24
Local WIC Agency Nutritionists | 32 | 3 | 96 | 1 | 96
Local WIC Agency Senior Nutrition Coordinator | 16 | 3 | 48 | 1 | 48
Total Reporting Burden | 2,144 |  | 2,432.00 |  | 1,335.20

Dated: June 12, 2008.
Roberto Salazar,
Administrator, Food and Nutrition Service.

[FR Doc. E8-13742 Filed 6-17-08; 8:45 am]

BILLING CODE 3410-30-P